DEPARTMENT OF THE TREASURY

Office of Foreign Assets Control

Additional Designation of Six Individuals Pursuant to Executive Order 13315

AGENCY: Office of Foreign Assets Control, Treasury.

ACTION: Notice.

SUMMARY: The Treasury Department's Office of Foreign Assets Control (“OFAC”) is publishing the names of six newly designated individuals whose property and interests in property are blocked pursuant to Executive Order 13315 of August 28, 2003, “Blocking Property of the Former Iraqi Regime, Its Senior Officials and Their Family Members, and Taking Certain Other Actions.”

DATES: The designation by the Secretary of the Treasury of the six individuals identified in this notice pursuant to Executive Order 13315 is effective on December 6, 2007.

FOR FURTHER INFORMATION CONTACT: Assistant Director, Compliance Outreach & Implementation, Office of Foreign Assets Control, Department of the Treasury, Washington, DC 20220, tel.: 202/622-2490.

SUPPLEMENTARY INFORMATION:

Electronic and Facsimile Availability

This document and additional information concerning OFAC are available from OFAC's Web site (http://www.treas.gov/ofac) or via facsimile through a 24-hour fax-on-demand service, tel.: 202/622-0077.

Background

On August 28, 2003, the President issued Executive Order 13315 (the “Order”) pursuant to the International Emergency Economic Powers Act, 50 U.S.C. 1701 et seq., the National Emergencies Act, 50 U.S.C. 1601 et seq., section 5 of the United Nations Participation Act, as amended, 22 U.S.C. 287c, section 301 of title 3, United States Code, and in view of United Nations Security Council Resolution 1483 of May 22, 2003. In the Order, the President expanded the scope of the national emergency declared in Executive Order 13303 of May 22, 2003, to address the unusual and extraordinary threat to the national security and foreign policy of the United States posed by obstacles to the orderly reconstruction of Iraq, the restoration and maintenance of peace and security in that country, and the development of political, administrative, and economic institutions in Iraq.

Section 1 of the Order blocks, with certain exceptions, all property and interests in property of the former Iraqi regime or its state bodies, corporations, or agencies, or of the following persons, that are in the United States, that hereafter come within the United States, or that are or hereafter come within the possession or control of United States persons: persons listed in the Annex to the Order, as well as persons who are determined by the Secretary of the Treasury, in consultation with the Secretary of State, (1) to be senior officials of the former Iraqi regime or their immediate family members; or (2) to be owned or controlled by, or acting or purporting to act for or on behalf of, directly or indirectly, any person whose property or interests in property are blocked pursuant to the Order.

On December 6, 2007, the Secretary of the Treasury, in consultation with the Secretary of State, designated, pursuant to one or more of the criteria set forth in the Order, six individuals whose property and interests in property are blocked pursuant to Executive Order 13315.

The list of additional designees is as follows:

1. AL-AHMAD, Ahmad Muhammad Yunis (a.k.a. AL-BADANI, Ahmad Muhammad Mahmud ‘Abdallah; a.k.a. AL-BARRANI, Ahmad Muhammad Al-Abdullah), Al-Mazzah Al-Jabal District, 6 Subdistrict, 3 area, Al-Iskan complex, 40/2, Fifth Floor, Damascus, Syria; DOB 19 Sep 1978; POB Al-Anbar, Iraq; nationality Iraq; Passport H0347417 (Iraq) issued 20 Feb 2003 expires 19 Feb 2011.

2. AL-AHMAD, Sa'ad Muhammad Yunis, Damascus, Syria; DOB 1 Jan 1981; POB Baghdad, Iraq; nationality Iraq; Identification Number 159014.

3. AL-AZAWI, Hatem Hamdan, Diyali, Al-Khalis Sector, Iraq; Deli Abbas, Iraq; DOB circa 1937.

4. AL-DULAYMI, Hasan Hashim Khalaf (a.k.a. “ABU WISSAM”), 30th Street, Al-Yarmuk Area, Jadat Al-Jaysh District, Damascus, Syria; House #43, Lane #17, Subdivision #808, Al-Dawrah, Baghdad, Iraq; DOB 1942; POB Baghdad, Iraq; nationality Iraq

5. AL-DURI, Thabet, Karkh District, Baghdad, Iraq; Rukan al-Din, Syria; DOB 1943; alt. DOB 1944; POB Dur, Iraq.

6. AL-TIKRITI, Ahmed Watban Ibrahim Hasan (a.k.a. AL-TIKRITI, Ahmad Watban Ibrahim Hasan; a.k.a. MUHAWDAR, ‘Imad ‘Udi), Al-Hadda Hotel, Sana'a, Yemen; Al-Ra'is Building, Mina Street, Tartus , Tartus, Syria; Jirmanah Neighborhood, Damascus, Syria; DOB 1975; alt. DOB 1979; POB Baghdad, Iraq; nationality Iraq.

Dated: December 6, 2007.
Adam J. Szubin,
Director, Office of Foreign Assets Control.

[FR Doc. E7-24342 Filed 12-14-07; 8:45 am]

BILLING CODE 4811-45-P